FEDERAL COMMUNICATIONS COMMISSION

47 CFR Parts 0, 43, 63 and 64

[IB Docket Nos. 02-324, 96-261; DA 03-312]

International Settlements Policy Reform and International Settlement Rates

AGENCY: Federal Communications Commission.

ACTION: Proposed rule; extension of reply comment period.

SUMMARY: On October 25, 2002, the Federal Communications Commission published a proposed rule document initiating a proceeding to re-examine the Commission's International Settlements Policy. The Commission received comments from a substantial number of foreign carriers or associations based in foreign countries. To ensure proper translations as well as the need for timely access to the initial comments, the Commission decided to extend the reply comment period by 12 days.

DATES: Reply comments are due on or before February 18, 2003.

ADDRESSES: Federal Communications Commission, Office of the Secretary, 445 12th Street, SW., Washington, DC 20554. See Supplementary Information for filing instructions.

FOR FURTHER INFORMATION CONTACT: James Ball, Chief, or Lisa Choi, Senior Legal Advisor, Policy Division, International Bureau, (202) 418-1460.

SUPPLEMENTARY INFORMATION: 1. On October 11, 2002, the Commission released a Notice of Proposed Rulemaking (NPRM) seeking comment from the public regarding possible reform of its International Settlements Policy, International Simple Resale and benchmarks policies, and the issue of foreign mobile termination rates. (See 67 FR 65527, October 25, 2002.)

2. On January 14, 2003, the Commission received comments from twenty parties on the issues under consideration in the NPRM. A substantial number of initial commenters are either foreign carriers or associations based in foreign countries. Therefore, recognizing the potential need of some of these commenters for additional time to ensure proper translations as well as the need for timely access to the initial comments through the Commission's Electronic Comment Filing System (ECFS), we extend the comment due date for replies regarding the NPRM, FCC 02-285, IB Docket Nos. 02-324 & 96-261, by 12 days to February 18, 2003 in order to afford all members of the public a full opportunity to comment on the issues raised in the initial comments. We find that the public interest will be served by this brief extension of the reply dates to allow for a more complete record in this proceeding.

3. Accordingly, pursuant to § 1.1 of the Commission's rules, 47 CFR 1.1, the new reply comment due date is February 18, 2003. Instructions for filing pleadings in this proceeding are set forth in the NPRM, available on the Commission's Web site at http://www.fcc.gov.

Federal Communications Commission:
James Ball,
Chief, Policy Division, International Bureau.

[FR Doc. 03-3137 Filed 2-7-03; 8:45 am]

BILLING CODE 6712-01-P